DEPARTMENT OF AGRICULTURE

Submission for OMB Review; Comment Request

July 9, 2012.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: National School Lunch Program and School Breakfast Program Access, Participation, Eligibility, and Certification Study II.

OMB Control Number: 0584-0530.

Summary of Collection: The National School Lunch Program (NSLP) and the School Breakfast Program (SBP) provide federal financial assistance and commodities to schools serving lunches and breakfasts that meet required nutritional standards. The Improper Payments Information Act of 2002 (Pub. L. 107-300) requires USDA to identify and reduce erroneous payments in various programs, including the NSLP and SBP. To comply with the Improper Payments Information Act and Executive Order 13520, USDA must report on the prevalence of erroneous payments in the NSLP and SBP on an annual basis and if erroneous payments are significant, take actions to reduce improper payments and report on the efficacy of those actions. The APEC Study II will produce national estimates of erroneous payments for SY 2012-13 based on new collection of primary data.

Need and Use of the Information: In School Year 2012-2013, on-site data collection activities will be conducted in a nationally representative sample of school districts and schools across the 48 contiguous States and the District of Columbia. Data to be collected will include school administrative records, household income from parents/guardians, direct observation of school meal transactions and other information that will inform the study.

Description of Respondents: Individuals or households, State, Local, or Tribal Government.

Number of Respondents: 8,075.

Frequency of Responses: Reporting: On occasion.

Total Burden Hours: 5,837.

Ruth Brown,
Departmental Information Collection Clearance Officer.

[FR Doc. 2012-17066 Filed 7-12-12; 8:45 am]

BILLING CODE 3410-30-P